DEPARTMENT OF THE INTERIOR

Bureau of Land Management

[OR-957-00-1420-BJ: GP04-0044]

Filing of Plats of Survey: Oregon/Washington

AGENCY: Bureau of Land Management, Interior.

ACTION: Notice.

SUMMARY: The plat of survey of the following described lands was officially filed in the Oregon State Office, Portland, Oregon, on September 25, 2003.

Willamette Meridian

Washington

T. 36 N., R. 33 E., accepted September 5, 2003.

The plats of survey of the following described lands were officially filed in the Oregon State Office, Portland, Oregon, July 23, 2003.

Oregon

T. 32 S., R. 6W., accepted July 18, 2003.

T. 18 S., R. 32 E., accepted October 17, 2003.

T. 19 S., R. 32 E., accepted October 17, 2003.

T. 5 S., R. 4 E., accepted October 17, 2003.

T. 29 S., R. 5 W., accepted October 31, 2003.

Washington

T. 31 N., R. 31 E., accepted October 7, 2003.

T. 18 N., R. 1 E., accepted October 7, 2003.

A copy of the plats may be obtained from the Public Room at the Oregon State Office, Bureau of Land Management, 333 SW. 1st Avenue, Portland, Oregon 97204, upon required payment. A person or party who wishes to protest against a survey must file a notice that they wish to protest (at the above address) with the State Director, Bureau of Land Management, Portland, Oregon.

FOR FURTHER INFORMATION CONTACT: Chief, Branch of Cadastral Survey, Bureau of Land Management, (333 SW 1st Avenue) PO Box 2965, Portland, Oregon 97208.

Dated: December 3, 2003.
Robert D. DeViney, Jr.,
Branch of Realty and Records Services.

[FR Doc. 03-31047 Filed 12-16-03; 8:45 am]

BILLING CODE 4310-33-P